OFFICE OF PERSONNEL MANAGEMENT

5 CFR Part 630

RIN 3206-AJ51

Absence and Leave; Use of Restored Annual Leave

AGENCY: Office of Personnel Management.

ACTION: Interim rule; correction.

SUMMARY: This document corrects the effective date of the interim regulations that were originally published in the Federal Register on Friday, November 2, 2001 (66 FR 55557). The interim regulations provide that employees who would forfeit excess annual leave because of their work to support the Nation during the current national emergency will be deemed to have scheduled their excess annual leave in advance. The correct effective date of the interim regulations is November 2, 2001.

EFFECTIVE DATE: The effective date of the interim rule published on November 2, 2001 at 66 FR 55557 is corrected to read “November 2, 2001.”

FOR FURTHER INFORMATION CONTACT: Sharon A. Herzberg at (202) 606-2858, FAX (202) 606-0824, or email payleave@opm.gov.

SUPPLEMENTARY INFORMATION: On November 2, 2001, the Office of Personnel Management (OPM) issued interim regulations to aid agencies and employees responding to the “National Emergency by Reason of Certain Terrorist Attacks” on the World Trade Center and the Pentagon. The interim regulations provide that employees who would forfeit excess annual leave because of their work to support the Nation during the current national emergency will be deemed to have scheduled their excess annual leave in advance. These employees will be entitled to restoration of their annual leave under these regulations.

The effective date of the interim regulations were incorrect. The effective date of the interim regulations is November 2, 2001, the date of publication in the Federal Register. In its “Waiver of Notice of Proposed Rule Making and Delay in Effective Date,” OPM stated that there was good cause for making this rule effective in less than 30 days. The delay in the effective date is being waived to give affected employees the benefit of these new provisions as quickly as possible.

Regulatory Flexibility Act

I certify that these regulations will not have significant economic impact on a substantial number of small entities because they will affect only Federal agencies and employees.

List of Subjects 5 in CFR Part 630

Government employees.

Office of Personnel Management.
Jacquline D. Carter,
Federal Register Liaison Officer.

[FR Doc. 01-27959 Filed 11-2-01; 2:29 pm]

BILLING CODE 6325-39-P